DEPARTMENT OF HEALTH AND HUMAN SERVICES

Health Resources and Services Administration

National Advisory Council on Nurse Education and Practice; Notice for Request for Nominations

SUMMARY: The Health Resources and Services Administration (HRSA) is requesting nominations to fill eight vacancies on the National Advisory Council on Nurse Education and Practice (NACNEP).

Authority: 42 U.S.C. 297t, section 851 of the Public Health Service (PHS) Act, as amended by the Affordable Care Act. The NACNEP is governed by the Federal Advisory Committee Act, Public Law (Pub. L.) 92-463, as amended (5 U.S.C. Appendix 2), which sets forth standards for the formation and use of advisory committees.

DATES: The Agency must receive nominations on or before December 22, 2010. Addresses: All nominations are to be submitted either by mail to Lakisha Smith, MPH, Designated Federal Official, NACNEP, Division of Nursing, Bureau of Health Professions (BHPr), Health Resources and Services Administration (HRSA), Parklawn Building, Room 9B-45, 5600 Fishers Lane, Rockville, MD 20857 or e-mail at Lsmith2@hrsa.gov.

FOR FURTHER INFORMATION CONTACT: For additional information contact, Lakisha Smith, Executive Secretary, National Advisory Council on Nurse Education and Practice, by e-mail at Lsmith2@hrsa.gov or telephone at (301) 443-5688. A copy of the current committee membership, charter and reports can be obtained by accessing the NACNEP Web site at http://bhpr.hrsa.gov/nursing/nacnep.htm.

SUPPLEMENTARY INFORMATION: Under the authorities that established the NACNEP and the Federal Advisory Committee Act, HRSA is requesting nominations for eight committee members. The NACNEP advises and makes recommendations to the Secretary and Congress on policy matters arising in the administration of Title VIII, including the range of issues relating to the nurse workforce, nursing education and nursing practice improvement. The Advisory Council may make specific recommendations to the Secretary and Congress regarding programs administered by the Division of Nursing, Bureau of Health Professions, Health Resources and Services Administration. The Advisory Council provides advice to the Secretary and Congress in preparation of general regulations and with respect to policy matters in the administration of this Title including the range of issues relating to nurse supply, education, and practice improvement. The Advisory Council shall annually prepare and submit to the Secretary, the Committee on Health, Education, Labor, and Pensions of the Senate and the Committee on Energy and Commerce of the House of Representatives, a report describing the activities of the Advisory Council including its findings and recommendations.

The Department of Health and Human Services is requesting a total of eight nominations for members of the NACNEP who represent any of the following groups: Full-time students representing various levels of education in schools of nursing; the general public; practicing professional nurses; leading authorities in the various fields of nursing, higher secondary education and associate degree schools of nursing; and representatives of advanced education nursing groups (such as nurse practitioners, nurse midwives, and nurse anesthetists), hospitals, and other institutions and organizations which provide nursing services. The majority of members of the fully constituted Council shall be nurses.

The Department is legally required to ensure that the membership of HHS Federal advisory committees is fairly balanced in terms of points of view represented and the functions to be performed by the advisory committee. Every effort is made to ensure that the views of women, all ethnic and racial groups, and people with disabilities are represented on all HHS Federal advisory committees and, therefore the Department encourages nominations of qualified candidates from these groups. The Department also encourages geographic diversity in Council composition. Appointment to this Council shall be made without discrimination on the basis of age, race, ethnicity, gender, sexual orientations, disability, culture, religion or socioeconomic status.

Interested persons may nominate one or more qualified persons for membership. Self-nominations are also accepted. Nominations must be typewritten. The following information should be included in the package of materials submitted for each individual being nominated: (1) A letter of nomination that clearly states the name and affiliation of the nominee, the basis for the nomination (i.e., specific attributes that qualify the nominee for services in this capacity as described above), a statement that the nominee is willing to serve as a member of the NACNEP and appears to have no conflict of interest that would preclude this Council membership. Potential candidates will be asked to provide detailed information concerning such matters as financial holdings, consultancies, research grants, and/or contracts to permit an evaluation of possible sources of conflicts of interest; and (2) the nominator's name, address and daytime telephone number; the home/or work address, and telephone number; and finally, the e-mail address of the individual being nominated. HRSA requests inclusion of a current copy of the nominee's curriculum vitae and a statement of interest from the nominee which demonstrates experience working with or interest in Title VIII nursing programs; expertise in the field (if applying as a nursing candidate) or understanding of nursing issues (if applying as a general public candidate); and a personal desire to participate on a National Advisory Council. Members will receive a stipend for each day (including travel time) during which they are in attendance at official meetings of the Council, as well as per diem and travel expenses as authorized by section 5 U.S.C. 5703 for persons employed intermittently in government service. Qualified candidates will be invited to serve a four-year term.

Dated: November 30, 2010.
Robert Hendricks,
Director, Division of Policy and Information Coordination.

[FR Doc. 2010-30445 Filed 12-3-10; 8:45 am]

BILLING CODE 4165-15-P